DEPARTMENT OF COMMERCE

National Oceanic and Atmospheric Administration

Western Pacific Fishery Management Council; Public Meeting

AGENCY: National Marine Fisheries Service (NMFS), National Oceanic and Atmospheric Administration (NOAA), Commerce.

ACTION: Notice of a public meeting and hearing.

SUMMARY: The Western Pacific Fishery Management Council (Council) will hold a meeting of its Commonwealth of the Northern Mariana Islands (CNMI) Mariana Archipelago Fishery Ecosystem Plan (FEP) Advisory Panel (AP) and Hawaii Archipelago FEP AP to discuss and make recommendations on fishery management issues in the Western Pacific Region.

DATES: The CNMI Mariana Archipelago FEP AP will meet on Wednesday, October 14, 2015, between 6 p.m. and 8 p.m. and the Hawaii Archipelago FEP AP will meet on Thursday, October 15, 2015, between 9 a.m. and 11 a.m. All times listed are local island times. For specific times and agendas, see SUPPLEMENTARY INFORMATION.

ADDRESSES: The CNMI Mariana Archipelago FEP AP will meet at the Micronesian Environmental Services Office on Middle Road in Garapan, Saipan, CNMI. The Hawaii Archipelago FEP AP will meet at the Western Pacific Regional Fishery Management Council Office, 1164 Bishop St., Suite 1400, Honolulu, HI 96813 and by teleconference. The teleconference will be conducted by telephone and by Web. The teleconference numbers are: U.S. toll-free: 1-888-482-3560 or International Access: +1 647 723-3959, and Access Code: 5228220; The webconference can be accessed at https://wprfmc.webex.com/join/info.wpcouncilnoaa.gov

FOR FURTHER INFORMATION CONTACT: Kitty M. Simonds, Executive Director, Western Pacific Fishery Management Council; telephone: (808) 522-8220.

SUPPLEMENTARY INFORMATION: Public comment periods will be provided in the agenda. The order in which agenda items are addressed may change. The meetings will run as late as necessary to complete scheduled business.

Schedule and Agenda for the CNMI Mariana Archipelago FEP AP Meeting

Wednesday, October 14, 2015, 6 p.m.-8 p.m.

1. Welcome and Introductions

2. Review and Approval of the Agenda

3. Issues to be discussed at 164th Council Meeting

A. Upcoming Council Action Items

i. Specification of Territorial Bottomfish Annual Catch Limits (ACLs)

ii. 2016 Territorial Bigeye Tuna Catch Limit Specifications

iii. Council review of Mariana FEP and Proposed Changes

B. Mariana Archipelago FEP-CNMI Community Activities

4. Mariana Archipelago FEP-CNMI Issues

A. Report of the Subpanels

i. Island Fisheries Subpanel

ii. Pelagic Fisheries Subpanel

iii. Ecosystems and Habitat Subpanel

iv. Indigenous Fishing Rights Subpanel

B. Other Issues

5. Public Hearing

6. Discussion and Recommendations

7. Other Business

Schedule and Agenda for the Hawaii Archipelago FEP AP Meeting

Thursday, October 15, 2015, 9 a.m.-11 a.m.

1. Welcome and Introductions

2. Review and Approval of the Agenda

3. Issues to be discussed at 164th Council Meeting

A. Upcoming Council Action Items

i. 2016 Territorial Bigeye Tuna Catch Limit Specifications

ii. Council review of Hawaii FEP and Proposed Changes

B. Hawaii Archipelago FEP Community Activities

4. Hawaii Archipelago FEP Issues

A. Subpanel Groups Community Fishery Issues

i. Island Fisheries Subpanel

ii. Pelagic Fisheries Subpanel

iii. Ecosystems and Habitat Subpanel

iv. Indigenous Fishing Rights Subpanel

B. Other Issues

5. Public Hearing

6. Discussion and Recommendations

7. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: September 22, 2015.
Tracey L. Thompson,
Acting Deputy Director, Office of Sustainable Fisheries, National Marine Fisheries Service.

[FR Doc. 2015-24436 Filed 9-24-15; 8:45 am]

BILLING CODE 3510-22-P